DEPARTMENT OF ENERGY

Federal Energy Regulatory Commission

[Docket No. ER97-4185-001, et al.]

Texas-New Mexico Power Company, et al. Electric Rate and Corporate Regulation Filings

November 3, 2000.

Take notice that the following filings have been made with the Commission.

1. Texas-New Mexico Power Company

[Docket No. ER97-4185-001]

Take notice that on October 31, 2000, Texas-New Mexico Power Company (TNP), tendered for filing with the Commission an amendment to its “Request for Determination That Updated Market Analysis Is Not Necessary Or, in the Alternative, for Extension of Time”, filed in this proceeding on October 16, 2000. Significantly, the amendment submits the report in lieu of an analysis and omits the request for an extension of time.

Comment date: November 21, 2000, in accordance with Standard Paragraph E at the end of this notice.

2. Dominion Nuclear Marketing III, Inc.

[Docket No. ER97-3746-001]

Take notice that on October 31, 2000, Dominion Nuclear Marketing III, Inc. (DNM III), at the request of the Commission's Staff, DNM III resubmitted its FERC Market-Based Sales Tariff to assure compliance with the Commission's policy regarding the provision of ancillary services at market based rates and also resubmitted its Code of Conduct for Officers and Employees of Dominion Nuclear Marketing III, Inc., to assure compliance with the Commission's pagination guidelines. Also as part of DNM III's filing, the issue date of its tariff sheets was changed to October 31, 2000.

Comment date: November 21, 2000, in accordance with Standard Paragraph E at the end of this notice.

3. Consolidated Edison Company of New York, Inc.

[Docket No. ER01-130-000]

Take notice that on October 31, 2000, Consolidated Edison Company of New York, Inc. (Con Edison), tendered for filing an amendment to its filing of a Supplement to its Rate Schedule FERC 117, an agreement to provide interconnection and transmission service to the Long Island Power Authority (LIPA).

Con Edison states that a copy of this filing has been served by mail upon LIPA.

Comment date: November 21, 2000, in accordance with Standard Paragraph E at the end of this notice.

4. Old Dominion Electric Cooperative

[Docket No. ER01-259-000]

Take notice that on October 31, 2000, Old Dominion Electric Cooperative (Applicant), tendered for filing a Service Agreement between Applicant and Southside Electric Cooperative for service to a single, new delivery point pursuant to the Applicant's previously granted authority to make sales at market-based rates.

Comment date: November 21, 2000, in accordance with Standard Paragraph E at the end of this notice.

5. American Transmission Systems, Inc.

[Docket No. ER01-274-000]

Take notice that on October 31, 2000, American Transmission Systems, Inc., tendered for filing a Supplement adding new transmission customers to the Service Agreement and Operating Agreement for Network Integration Transmission Service provided by American Transmission System, Inc. to American Municipal Power-Ohio, Inc. (AMP-Ohio) on behalf of certain designated municipal electric systems in Ohio and Pennsylvania. The Supplement does not modify the terms and conditions of the existing Network Agreements between American Transmission Systems, Inc. and AMP-Ohio.

American Transmission Systems, Inc. requests an effective date of October 1, 2000 for the Supplement.

Copies of this filing have been served on the utility commissions in Ohio and Pennsylvania.

Comment date: November 21, 2000, in accordance with Standard Paragraph E at the end of this notice.

6. Western Systems Coordinating Council

[Docket No. ER01-275-000]

Take notice that on October 31, 2000, the Western Systems Coordinating Council (WSCC), tendered for filing with the Commission amendments to the Reliability Criteria Agreement and the individual Reliability Management System Agreements under the WSCC's Reliability Management System. The amendments correct several problems with the original agreements, and add four new reliability criteria to the program.

The WSCC requests that the Commission make such amendments effective November 1, 2000.

Comment date: November 21, 2000, in accordance with Standard Paragraph E at the end of this notice.

7. Pacific Gas and Electric Company

[Docket No. ER01-276-000]

Take notice that on October 31, 2000, Pacific Gas and Electric Company (PG&E), tendered for filing a revised and amended Coordinated Operations Agreement (Revised COA) between itself, Southern California Edison Company (SCE) and SDG&E (“SDG&E”) and each California-Oregon Transmission Project (COTP) Participant. The proposed revisions modify the existing Coordinated Operations Agreement of PG&E, PG&E Rate Schedule FERC No. 146.

Copies of this filing have been served upon SCE, SDG&E, the COTP Participants, the California Independent System Operator Corporation, and the California Public Utilities Commission.

Comment date: November 21, 2000, in accordance with Standard Paragraph E at the end of this notice.

8. Alcoa Power Generating Inc.

[Docket No. ER01-287-000]

Take notice that on October 31, 2000, Alcoa Power Generating Inc. (APGI), tendered for filing a long-term agreement between Aquila Energy Marketing Corporation (Aquila) and APGI under APGI's Market Rate Tariff No. 1 (MR-1). This Tariff was accepted for filing by the Commission on July 13, 1999 in Docket No. ER99-2932-000.

The service agreement with Aquila is proposed to be effective October 1, 2000.

Comment date: November 21, 2000, in accordance with Standard Paragraph E at the end of this notice.

9. Idaho Power Company

[Docket No. ER01-288-000]

Take notice that on October 31, 2000, Idaho Power Company (IPC), tendered for filing with the Federal Energy Regulatory Commission a Service Agreement under Idaho Power Company FERC Electric Tariff No. 6, Market Rate Power Sales Tariff, between Idaho Power Company and ENMAX Energy Corporation.

Comment date: November 21, 2000, in accordance with Standard Paragraph E at the end of this notice.

10. WPS Resources Operating Companies

[Docket No. ER01-289-000]

Take notice that on October 31, 2000, WPS Resources Operating Companies (WPS), tendered for filing modifications to its Open Access Transmission Tariff (OATT), FERC Electric Tariff, Volume No. 1, WPS is deleting provisions for transmission service over the facilities of its operating company Wisconsin Public Service Corporation (WPSC) and the provision of Schedule 1 Service. WPS states that WPSC's transmission facilities will be transferred to the American Transmission Company, LLC as of January 1, 2001. No change is being made to the OATT provisions relating to Ancillary Service Schedules 2 through 6 or distribution service in the WPSC control area or to any of the tariff services offered within the control area or transmission system of WPS' other operating company, Upper Peninsula Power Company.

WPS requests that its revised OATT be made effective January 1, 2001.

Copies of the filing were served upon WPS's OATT customers, the ATCLLC, the Public Service Commission of Wisconsin and the Michigan Public Service Commission.

Comment date: November 21, 2000, in accordance with Standard Paragraph E at the end of this notice.

11. San Diego Gas & Electric Company

[Docket No. ER01-290-000]

Take notice that on October 31, 2000, San Diego Gas & Electric Company (SDG&E), tendered for filing an unexecuted Service Agreement between SDG&E and the City of Escondido (the City) for service under SDG&E Open Access Distribution Tariff (OATD). SDG&E states that it tenders the Service Agreement to assure that service under the OATD is available to the City January 1, 2001, the date on which the existing Power Sale Agreement between SDG&E and the City terminates.

Copies of this filing have been served upon the California Public Utilities Commission and the City.

Comment date: November 21, 2000, in accordance with Standard Paragraph E at the end of this notice.

12. ISO New England Inc.

[Docket No. ER00-395-004]

Take notice that on October 27, 2000, ISO New England Inc., tendered for filing its quarterly Index of Customers for its Tariff for Transmission Dispatch and Power Administration Services in accordance with the procedure specified in its filing letter in Docket No. ER00-395-000 dated November 1, 1999, and approved by Commission order issued December 30, 1999.

Comment date: November 17, 2000, in accordance with Standard Paragraph E at the end of this notice.

13. Pacific Gas and Electric Company

[Docket No. ER01-298-000]

Take notice that on October 31, 2000, Pacific Gas and Electric Company (PG&E), tendered for filing a conformed “Agreement between Pacific Gas and Electric Company and City and County of San Francisco,” Revised PG&E Rate Schedule FERC No. 114 (1987 Agreement) and the Small Facilities Authorization Letter No. 5, submitted pursuant to the Procedures for Implementation (Procedures) of Section 3.3 of the 1987 Agreement between PG&E and the City and County of San Francisco (City). This is PG&E's fourth quarterly filing submitted pursuant to Section 4 of the Procedures, which provides for the quarterly filing of Facilities Authorization Letters.

The Facilities Authorization Letter streamlines the procedures for filing numerous Facilities, and facilitates payment of PG&E's costs of designing, constructing, procuring, testing, placing in operation, owning, operating and maintaining the customer-specific Facilities required for firm transmission and distribution service requested by City under this Facilities Authorization Letter. PG&E has requested certain waivers.

Copies of this filing have been served upon City and the CPUC.

Comment date: November 21, 2000, in accordance with Standard Paragraph E at the end of this notice.

Standard Paragraphs:

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferce.fed.us/ online/rims.htm (call 202-208-2222 for assistance).

David P. Boergers,
Secretary.

[FR Doc. 00-28876 Filed 11-9-00; 8:45 am]

BILLING CODE 6717-01-M